DEPARTMENT OF COMMERCE

International Trade Administration

[A-570-504]

Petroleum Wax Candles From the People's Republic of China; Final Results of the Expedited Sunset Review of the Antidumping Duty Order

AGENCY: Import Administration, International Trade Administration, Department of Commerce.

SUMMARY: On August 2, 2004, the Department of Commerce (“the Department”) initiated a sunset review of the antidumping duty order on Petroleum Wax Candles (“candles”) from the People's Republic of China (“PRC”) pursuant to section 751(c) of the Tariff Act of 1930, as amended (“the Act”). On the basis of a notice of intent to participate and an adequate substantive response filed on behalf of domestic interested parties and inadequate response (in this case, no response) from respondent interested parties, the Department conducted an expedited (120-day) sunset review. As a result of this sunset review, the Department finds that revocation of the antidumping duty order would be likely to lead to continuation or recurrence of dumping. The dumping margins are identified below in the “Final Results of Review” section of this notice.

EFFECTIVE DATE: December 16, 2004.

FOR FURTHER INFORMATION: Hilary E. Sadler, Esq., Office of Policy for Import Administration, International Trade Administration, U.S. Department of Commerce, 14th Street & Constitution Avenue, NW., Washington, DC 20230; telephone: (202) 482-4340.

SUPPLEMENTARY INFORMATION

Background

On August 2, 2004, the Department published the notice of initiation of the second sunset review of the antidumping duty order on candles from the PRC pursuant to section 751(c) of the Act. See Initiation of Five-Year (“Sunset”) Reviews, 69 FR 46134 (August 2, 2004). The Department received the Notice of Intent to Participate from the domestic interested parties, the National Candles Association (“NCA”) and its participating member companies: AcScents Aromatics Fine Candles, Inc.; Alene Candles, Inc.; Arizona Natural Resources, Inc.; Armadilla Wax Works, Inc.; Aromatique, Inc.; Best Candle, LLC; Blyth HomeScents Intl.; BMC Manufacturing, LLC; Bright Glow Candle Corp.; Bright of America; Bullfrog Light Co.; Candle Lamp Co.; Candle-Lite, Inc.; Carolina CandleLites, Inc.; Casey Pottery Co.; Cathedral Candle Co.; Changing Paradigms, LLC; Covered Bridge Candle Co.; Dadant & Sons, Inc.; Dial Corp.; Dianne's Custom Candles; Dreamers Candles; Early American Candle; Empire Candle Manufacturing, LLC; Evan Scent, Inc.; General Wax & Candle Co.; GlobalTech Industries, Inc.; Gold Canyon Candles, LLC; Guildhouse—An American Greetings Corp.; Hanna's Candle Co.; Heartland Fragrance & Herb Co.; Heritage Candles, Inc.; Hillhouse Natural Farms, Ltd.; Home Essentials, LLC; Home Fragrance Holdings, Inc.; Hot Wax Candle Co., Inc.; Lamplight Farms; Laredo Candle Co.; Latitudes Intl.; Lumi-Lite Candle Co., Inc.; Miracle Candle Co.; Natures Finest Candles; Old Virginia Candle Co.; Old Williamsburgh Candle Corp.; Olio, Inc.; Panacea Products Corp.; Park Avenue Candles; Primal Elements, Inc.; Private Gardens—Trapp Candles; Reed Candle Co.; Root Candles; Salt City Candle Co.; Starlume, Inc.; Surgipath Medical Industries, Inc. dba Cera Bella; Suzzette's Cabin Candles; Tyler Candle Co.; USA Labs, Inc.; Votivo, Ltd.; Williamsburg Soap and Candle Co.; Wizard Candles, Inc.; and Yankee Candle Co, Inc. (collectively “the domestic interested parties”), within the deadline specified in section 351.218(d)(1)(i) of the Department's Regulations (“Sunset Regulations”). The domestic interested parties claimed interested party status under section 771(9)(E) of the Act, as a trade association, the majority of members of which manufacture, produce, or wholesale a domestic-like product in the United States. We received a complete substantive response only from the domestic interested parties within the 30-day deadline specified in 19 CFR 351.218(d)(3)(i). We received no response from the respondent interested parties. As a result, pursuant to section 751(c)(5)(A) of the Act and 19 CFR 351.218(e)(1)(ii)(C)(2), the Department conducted an expedited (120-day) sunset review of this order.

Scope of the Order

The products covered by this order are certain scented or unscented petroleum wax candles made from petroleum wax and having fiber or paper-cored wicks. They are sold in the following shapes: tapers, spirals and straight-sided dinner candles; rounds, columns, pillars, votives; and various wax-filled containers. The products were originally classifiable under the Tariff Schedules of the United States item 755.25, Candles and Tapers. The products are currently classifiable under the Harmonized Tariff Schedule item number 3406.00.00.

The Department determined several products were excluded from the scope of this order. For a complete list of the Department's scope rulings, please check our Web site at http://www.ia.ita.doc.gov/download/candles-prc-scope. Also, additional scope determinations are pending. The written description remains dispositive.

Analysis of Comments Received

All issues raised in these reviews are addressed in the “Issues and Decision Memorandum” (“Decision Memo”) from Ronald K. Lorentzen, Acting Director, Office of Policy, Import Administration, to James J. Jochum, Assistant Secretary for Import Administration, dated December 10, 2004, which is hereby adopted by this notice. The issues discussed in the Decision Memo include the likelihood of continuation or recurrence of dumping and the magnitude of the margins likely to prevail if the order were revoked. Parties can find a complete discussion of all issues raised in this review and the corresponding recommendations in this public memorandum which is on file in room B-099 of the main Commerce Building.

In addition, a complete version of the Decision Memo can be accessed directly on the Web at http://ia.ita.doc.gov/frn, under the heading “December 2004.” The paper copy and electronic version of the Decision Memo are identical in content.

Final Results of Reviews

We determine that revocation of the antidumping duty order on candles from the PRC would be likely to lead to continuation or recurrence of dumping at the following weighted-average percentage margins:

Manufacturers/exporters/producers | Weighted average margin (percent)
PRC-wide | 108.30

This notice also serves as the only reminder to parties subject to administrative protective orders (“APO”) of their responsibility concerning the return or destruction of proprietary information disclosed under APO in accordance with 19 CFR 351.305 of the Department's regulations. Timely notification of the return or destruction of APO materials or conversion to judicial protective order is hereby requested. Failure to comply with the regulations and terms of an APO is a violation which is subject to sanction.

We are issuing and publishing the results and notice in accordance with sections 751(c), 752, and 777(i)(1) of the Act.

Dated: December 10, 2004.
James J. Jochum,
Assistant Secretary for Import Administration.

[FR Doc. E4-3676 Filed 12-15-04; 8:45 am]

BILLING CODE 3510-DS-P